DEPARTMENT OF STATE

[Public Notice 5782]

Determined Under Section 620(q) of the Foreign Assistance Act of 1961, as Amended, and Section 512 of the Foreign Operations, Export Financing, and Related Programs Appropriations Act of 2006, as Carried Forward Under the Continuing Resolution (Pub. L. 110-5), as Amended, Relating to Assistance to the Republic of Somalia

Pursuant to the authority vested in me by Section 620(q) of the Foreign Assistance Act of 1961, as amended (FAA), and Section 512 of the Foreign Operations, Export Financing, and Related Programs Appropriations Act, 2006 (FOAA), as carried forward under Continuing Resolution (Pub. L. 110-5), as amended, and by Executive Order 12163, as amended by Executive Order 13346, I hereby determine that assistance to the Republic of Somalia is in the national interest of the United States and thereby waive, with respect to that country, the application of Section 620(q) of the FAA and Section 512 of the FY 2006 FOAA, as carried forward under the Continuing Resolution (Pub. L. 110-5), as amended, and any similar provision in prior year FOAAs.

This determination shall be reported to Congress and published in the Federal Register.

Dated: March 12, 2007.
Condoleezza Rice,
Secretary of State, Department of State.

[FR Doc. E7-7918 Filed 4-24-07; 8:45 am]

BILLING CODE 4710-26-P